DEPARTMENT OF COMMERCE

National Oceanic and Atmospheric Administration

[ I.D. 062403A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on July 14-17, 2003.

ADDRESSES: These meetings will be held at the Naples Beach Hotel and Golf Club, 851 Gulf Shore Boulevard, North, Naples, FL; telephone: 239-261-2222.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

July 16

1:30 p.m. - Convene.

1:45 p.m. - 2:15 p.m. - Receive a report by the Environmental Protection Agency (EPA) on the dispersal of wastewater from the Piney Point Phosphate Plant.

2:15 p.m. - 4:30 p.m. - Receive public testimony on the Reef Fish Amendment 21 and a Draft Environmental Impact Statement (EIS) for the Generic Essential Fish Habitat (EFH) Amendment. Reef Fish Amendment 21 contains a proposal to extend the time period for the Madison/Swanson and Steamboat Lumps marine reserves beyond their June 16, 2004 expiration date. The Draft EIS for the Generic EFH Amendment contains alternatives for specifying EFH, habitat areas of particular concern (HAPCs), and impacts of fishing on EFH. Final action to approve Reef Fish Amendment 21 and the Draft EIS for the Generic EFH Amendment will be taken at on Thursday during the Council meeting. Persons testifying must register before the start of the testimony period.

4:30 p.m. - 5 p.m. - (Closed Session) Receive the report of the Joint Scientific and Statistical Committee (SSC) Selection/Advisory Panel (AP) Selection Committee.

July 17

8:30 a.m. - 9 a.m. - Receive a presentation by the U.S. Geological Services on the Pulley's Ridge Coral Study.

9 a.m. - 9:30 a.m. - Receive a presentation by NMFS on the designation of sawfish as an endangered species.

9:30 a.m. - 10 a.m. - Receive a review of the draft EIS for EFH Amendment by MRAG Americas, Inc.

10 a.m. - 12 noon - Review and final approval of the EIS for EFH Amendment.

1:30 p.m. - 3 p.m. - Receive the Reef Fish Management Committee report.

3 p.m. - 3:15 p.m. - Receive the Shrimp Management Committee report.

3:15 p.m. - 3:30 p.m. - Receive the Mackerel Management Committee report.

3:30 p.m. - 3:45 p.m. - Receive the Migratory Species Committee report.

3:45 p.m. - 4 p.m. - Receive the Joint Reef Fish/Mackerel/Red Drum Management Committee report.

4 p.m. - 4:30 p.m. - Receive the Joint Personnel/Administrative Policy/Budget Committee Report.

4:30 p.m. - 4:45 p.m. - Receive a report of the Logo Selection Committee.

4:45 p.m. - 5 p.m. - Receive the South Atlantic Fishery Management Council (SAFMC) Liaison Report.

5 p.m. - 5:15 p.m. - Receive Enforcement Reports.

5:15 p.m. - 5:30 p.m. - Receive a report of the Council Chairs Meeting.

5:30 p.m. - 5:45 p.m. - Receive the NMFS Regional Administrator's Report.

5:45 p.m. - 6:15 p.m. - Receive Director's Reports.

6:15 p.m. - 6:30 p.m. - Other Business.

Committees

July 14

8:30 a.m. - 9 a.m. - (Closed Session) Convene the Joint SSC and AP Selection Committees to make recommendations for appointments to the Standing SSC and the Shrimp AP.

9 a.m. - 12 noon - Convene the Joint Personnel/Administrative Policy/Budget Committee. This session will be partially closed. The Administrative handbook and part of the budget action will be acted upon in open session.

1:30 p.m. - 5:30 p.m. - Convene the Reef Fish Management Committee to hear recommendations of the SSC and Reef Fish Stock Assessment Panel (RFSAP) on the Southeast Data Assessment and Review (SEDAR) process. They will hear a presentation by NMFS on the final results of a trolling study conducted in the Madison-Swanson Marine Reserve. They will discuss an options paper for a vermilion snapper regulatory amendment to arrest overfishing, discuss alternatives for the red snapper rebuilding plan, and review the draft Reef Fish Amendment 18 Options Paper. The committee will make recommendations to be considered by the full Council on Thursday afternoon.

July 15

8:30 a.m. - 10 a.m. - Reconvene the Reef Fish Management Committee, if necessary.

10 a.m. - 11 a.m. Convene a joint meeting of the Reef Fish, Red Drum, and Mackerel Management Committees to discuss the proposed scoping document on a generic aquaculture amendment.

11 a.m. - 1 p.m. - Convene the Shrimp Management Committee to review and hear a presentation by NMFS on the status of shrimp stocks. They will also discuss a revised Amendment 13/Environmental Assessment (EA) Options Paper that includes alternatives for status criteria and benchmarks as well as a revised standardized bycatch reporting methodology.

2 p.m. - 5 p.m. - A NOAA Fisheries 2003 Regional Constituent Session will be held in conjunction with the Gulf of Mexico Council meeting. This will be one of eight regional constituent sessions to be held in conjunction with Fishery Management Council meetings from June through September 2003. The sessions are intended to gather public input on ways to improve the effectiveness of NOAA Fisheries. The regional sessions will be a collaborative effort involving all major marine fisheries interests - councils, commercial and recreational fishermen, tribal representatives, environmental organizations, and federal and state government. The primary objective is to assemble and provide a comprehensive analysis of the diverse opinions, attitudes, and perspectives of marine resource stakeholders as they relate to broad themes in management and daily operations. The secondary objective is to identify performance measures for fishery management. Persons attending these sessions can direct their questions to the Director of NOAA Fisheries, the Regional Administrator of NOAA Fisheries, the Director of the Southeast Fisheries Science Center and the Agent in Charge of NOAA Fisheries Enforcement. For more information, contact Patricia Lawson 301-713-2239 or particia.lawson@noaa.gov. Visit the NOAA Fisheries website for periodic updates on the regional sessions and to submit e-comments http://www.nmfs.noaa.gov/constit_sessions_2003.html.

6 p.m. - 8 p.m. - Continue the NOAA Fisheries 2003 Constituent Session.

July 16

8:30 a.m. - 10 a.m. - Convene the Mackerel Management Committee to review additional information on potential alternatives in the Amendment 15 Options Paper to increase the minimum size limit and/or reduce the bag limit on cobia in the Gulf of Mexico.

10 a.m. - 12 noon - Convene the Migratory Species Management Committee to discuss a proposed rule for Amendment 1 for the Highly Migratory Species (HMS) Fishery Management Plan (FMP).

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by July 7, 2003.

Dated: June 24, 2003.
Matteo J. Milazzo,
Acting Director, Office of Sustainable Fisheries, National Marine Fisheries Service.

[FR Doc. 03-16432 Filed 6-27-03; 8:45 am]

BILLING CODE 3510-22-S